FEDERAL ELECTION COMMISSION

Sunshine Act Meeting

AGENCY: Federal Election Commission.

* * * * *

PREVIOUSLY ANNOUNCED DATE AND TIME: Tuesday, February 27, 2001 10:00 a.m., meeting closed to the public.

This meeting was cancelled.

* * * * *

DATE AND TIME: Tuesday, March 6, 2001 at 10:00 a.m.

PLACE: 999 E Street, NW., Washington DC.

STATUS: This meeting will be closed to the public.

ITEMS TO BE DISCUSSED:

Compliance matters pursuant to 2 U.S.C. 437g.

Audits conducted pursuant to 2 U.S.C. 437g, 438(b), and Title 26, U.S.C.

Matters concerning participation in civil actions or proceedings or arbitration.

Internal personnel rules and procedures or matters affecting a particular employee.

* * * * *

DATE AND TIME: Thursday, March 8, 2001 at 10:00 a.m.

PLACE: 999 E Street, NW., Washington DC (ninth floor).

STATUS: This meeting will be open to the public.

ITEMS TO BE DISCUSSED:

Correction and Approval of Minutes.

Advisory Opinion 2001-03: The Honorable Gregory W. Meeks and the Meeks for Congress Committee.

Administrative Matters.

PERSON TO CONTACT FOR INFORMATION:

Mr. Ron Harris, Press Officer, Telephone: (202) 694-1220.

Mary W. Dove,
Acting Secretary of the Commission.

[FR Doc. 01-5154 Filed 2-27-01; 2:46 pm]

BILLING CODE 6715-01-M